DEPARTMENT OF HEALTH AND HUMAN SERVICES

Health Resources and Services Administration

Statement of Organization, Functions and Delegations of Authority

This notice amends Part R of the Statement of Organization Functions and Delegations of Authority of the Department of Health and Human Services (DHHS), Health Resources and Services Administration (HRSA) (60 FR 56605, as amended November 6, 1995; amended at 67 FR 46519, July 15, 2002; 68 FR 787-793, January 7, 2003, 68 FR 64357-64358, November 13, 2003; at 69 FR 56433-56434, September 21, 2004 and; last amended at 70 FR 61293-61294, October 21, 2005.)

This notice reflects changes to the organization and functions of the Office of the Administrator (AO) and the HIV/AIDS Bureau (RV).

Chapter RA—Office of the Administrator

Section RA-10, Organization

(1) Immediate Office of the Administrator (RA);

(2) Office of Equal Opportunity and Civil Rights (RA2);

(3) Office of Planning and Evaluation (RA5);

(4) Office of Communications (RA6);

(5) Office of Minority Health and Health Disparities (RA9);

(6) Office of Legislation (RAE);

(7) Office of Information Technology (RAG); and

(8) Office of International Health Affairs (RAH).

Section RA-20, Function

Delete the functional statement in its entirety and replace with the following:

Immediate Office of the Administrator (RA)

(1) Leads and directs programs and activities of the Agency and advises the Office of the Secretary of Health and Human Services on policy matters concerning them; (2) provides consultation and assistance to senior Agency officials and others on clinical and health professional issues; (3) serves as the Agency's focal point on efforts to strengthen the practice of public health as it pertains to the HRSA mission; (4) establishes and maintains verbal and written communications with health organizations in the public and private sectors to support the mission of HRSA; (5) directs the Center for Quality; and (6) manages the legislative and communications programs for the agency.

Chapter RV—HIV/AIDS Bureau

Section RV-10, Organization

Section RV-20, Functions

Delete the functional statement for the Office of the Associate Administrator in its entirety and replace with the following:

Provides leadership and direction for the HIV/AIDS programs and activities of the Bureau and oversees its relationship with other national health programs. Specifically: (1) Coordinates the formulation of an overall strategy and policy for HRSA AIDS programs; (2) coordinates the internal functions of the Bureau and its relationships with other national health programs; (3) establishes AIDS program objectives, alternatives, and policy positions consistent with broad Administration guidelines; (4) provides direction and leadership for the Agency's AIDS grants and contracts programs; (5) reviews AIDS related program activities to determine their consistency with established policies; (6) represents the Agency and the Department at AIDS related meetings, conferences and task forces; (7) serves as principal contact and advisor to the Department and other parties concerned with matters relating to planning and development of health delivery systems related to HIV/AIDS; (8) develops and administers operating policies and procedures for the Bureau; (9) directs and coordinates Bureau Executive Secretariat activities; (10) serves in developing and coordinating Telehealth programs and in facilitating electronic dissemination of best practices in health care to health care professionals; (11) provides grantees/States with accurate and timely interpretations of the Bureau's program expectations, requirements, guidance, and Federal legislation; and (12) arranges and provides technical assistance to assure that the grantees meet program expectations.

Section RA-30, Delegation of Authority

All delegations of authority which were in effect immediately prior to the effective date hereof have been continued in effect in them or their successors pending further re-delegation. I hereby ratify and affirm all actions taken by any HRSA official which involves the exercise of these authorities prior to the effective date of this delegation.

This reorganization is effective upon the date of signature.

Dated: August 2, 2006.
Elizabeth M. Duke,
Administrator.

[FR Doc. E6-13216 Filed 8-10-06; 8:45 am]

BILLING CODE 4165-15-P